SURFACE TRANSPORTATION BOARD

[Docket No. FD 35325 (Sub-No. 1)]

CSX Transportation, Inc.—Trackage Rights Amendment Exemption—Illinois Central Railroad Company

CSX Transportation, Inc. (CSXT), a Class I railroad, has filed a verified notice of exemption under 49 CFR 1180.2(d)(7) to amend the existing limited overhead trackage rights previously granted to it by the Illinois Central Railroad Company (IC).¹ The existing trackage rights extend over IC's line of railroad between: (1) The Decatur Street road crossing, at or near milepost 77.7, and milepost 76.7, on IC's Peoria Subdivision, including IC's connection with CSXT (approximately 1 mile); (2) milepost 30.5 and milepost 28.6 on IC's Peoria Subdivision (Green Switch Spur) (approximately 1.9 miles); and (3) IC's lead track from its connection to the Green Switch Spur to IC's connection with the ADM Run-Around-Yard on IC's Peoria Subdivision (approximately 0.7 miles). The total distance is approximately 3.6 miles, all in Decatur, Ill.

¹ CSXT is a subsidiary of CSX Corporation and IC is a subsidiary of Grand Trunk Corporation, which in turn is a wholly owned subsidiary of Canadian National Railway Company.

CSXT states that the purpose of the Amendment is to prohibit CSXT and its successors and assigns from moving Toxic Inhalation Hazard and Poison Inhalation Hazard cars on the trackage rights.²

² IC agreed to grant limited overhead trackage rights to CSXT in 2009. CSX Transp., Inc.—Trackage Rights Exemption—Ill. Cent. R.R., FD 35325 (STB served Dec. 18, 2009). The trackage rights agreement, as amended, does not restrict IC's rights to use the tracks.

The transaction is scheduled to be consummated on or shortly after September 6, 2018. The earliest this transaction may be consummated is September 6, 2018, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Stay petitions must be filed by August 30, 2018 (at least seven days before the exemption becomes effective).

An original and 10 copies of all pleadings, referring to Docket No. FD 35325 (Sub-No. 1), must be filed with the Surface Transportation Board, 395 E Street SW, Washington, DC 20423-0001. In addition, a copy of each pleading must be served on Louis E. Gitomer, Law Offices of Louis E. Gitomer, LLC, 600 Baltimore Avenue, Suite 301, Towson, MD 21204, and Steven C. Armbrust, CSX Transportation, Inc., 500 Water Street J-150, Jacksonville, FL 32202.

Board decisions and notices are available on our website at “WWW.STB.GOV.”

Decided: August 20, 2018.
By the Board, Amy C. Ziehm, Acting Director, Office of Proceedings.
Jeffrey Herzig,
Clearance Clerk.

[FR Doc. 2018-18328 Filed 8-22-18; 8:45 am]

BILLING CODE 4915-01-P